DEPARTMENT OF JUSTICE

Notice of Lodging of Proposed Consent Decree Under the Clean Air Act

On December 19, 2024, the Department of Justice lodged a proposed Consent Decree with the United States District Court for the Eastern District of Wisconsin in the lawsuit entitled United States v. The Manitowoc Company, Inc., et al., Civil Action No. 2:24-cv-1635.

The United States filed a Complaint, on behalf of the United States Environmental Protection Agency, against The Manitowoc Company, Inc. and its subsidiaries Grove U.S. L.L.C. and Manitowoc Crane Group Germany GMBH, alleging violations of sections 203(a) and 213(d) of the Clean Air Act, 42 U.S.C. 7522(a) and 7547(d), and implementing regulations, by their importation, introduction into commerce, and sale of heavy nonroad construction equipment containing diesel engines that were not certified to model year engine emission standards. The Complaint also alleges violations of labeling, bonding, and reporting requirements and seeks civil penalties and appropriate injunctive relief.

Under the proposed Consent Decree, the Defendants will pay a civil penalty of $42,600,000 and will complete a project to mitigate harm caused by excess nitrogen oxide and particulate matter emissions from the noncompliant engines.

The publication of this notice opens a period for public comment on the proposed Consent Decree. Comments should be addressed to the Assistant Attorney General, Environment and Natural Resources Division, and should refer to United States v. The Manitowoc Company, Inc., et al., D.J. Ref. No. 90-5-2-1-12216. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Jason A. Dunn,
Assistant Section Chief, Environmental Enforcement Section, Environment and Natural Resources Division.

[FR Doc. 2024-30971 Filed 12-27-24; 8:45 am]

BILLING CODE P